DEPARTMENT OF LABOR

Employment and Training Administration

[TA-W-56,428; TA-W-56,428B]

Magneti Marelli Powertrain USA, LLC, Sanford, NC; Including Employees of Magneti Marelli Powertrain USA, LLC, Sanford, NC; Working On-Site at the Harley Davidson Facility, Wauwatosa, WI; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on March 4, 2005, applicable to workers of Magneti Marelli Powertrain USA, LLC, Sanford, North Carolina. The notice was published in the Federal Register on April 1, 2005 (70 FR 16847).

At the request of a company official, the Department reviewed the certification for workers of the subject firm.

New information shows that worker separations have occurred involving employees of the Sanford, North Carolina facility of Magneti Marelli Powertrain USA, LLC working on-site at the Harley Davidson Facility, located in Wauwatosa, Wisconsin. Mr. Daniel Kaari, Mr. Scott Metcalf and Mr. David Jones provided customer support services for the production of engine management components and systems (e.g.—throttle bodies, fuel injectors, and carburetors) at the Sanford, North Carolina location of the subject firm.

Based on these findings, the Department is amending this certification to include employees of the Sanford, North Carolina facility of the subject firm working on-site at the Harley Davidson Facility located in Wauwatosa, Wisconsin.

The intent of the Department's certification is to include all workers of the Sanford, North Carolina location of the subject firm who was adversely affected by increased customer imports.

The amended notice applicable to TA-W-56,428 is hereby issued as follows:

All workers of Magneti Marelli Powertrain USA, LLC, Sanford, North Carolina (TA-W-56,428), and Magneti Marelli Powertrain USA, LLC, Michigan Office, Farmington Hills, Michigan (TA-W-56,428A), including employees of Magneti Marelli Powertrain USA, LLC, Sanford North Carolina working on-site at the Harley Davidson Facility, Wauwatosa, Wisconsin, who became totally or partially separated from employment on or after January 3, 2004, through March 4, 2007, are eligible to apply for adjustment assistance under Section 223 of the Trade Act of 1974.

I further determine that all workers of Magneti Marelli Powertrain USA, LLC, Sanford, North Carolina (TA-W-58,428), and Magneti Marelli Powertrain USA, LLC, Michigan Office, Farmington Hills, Michigan (TA-W-56,428A), including employees of Magneti Marelli Powertrain USA, LLC, Sanford, North Carolina working on-site at the Harley Davidson Facility, Wauwatosa, Wisconsin (TA-W-56,428B) are denied eligibility for alternative trade adjustment assistance under Section 246 of the Trade Act of 1974.

Signed at Washington, DC this 29th day of June 2006.
Elliott S. Kushner,
Certifying Officer, Division of Trade Adjustment Assistance.

[FR Doc. E6-11224 Filed 7-14-06; 8:45 am]

BILLING CODE 4510-30-P